DEPARTMENT OF LABOR

Employment and Training Administration

Comment Request for Information Collection for a Three-Year Extension of the Labor Exchange Reporting System (LERS), Extension With Revisions

AGENCY: Employment and Training Administration, Labor.

ACTION: Notice.

SUMMARY: The Department of Labor (Department), as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration (ETA) is soliciting comments concerning LERS, Office of Management and Budget (OMB) Control No. 1205-0240), which facilitates performance reporting for the Wagner-Peyser Act funded public employment service activities through the ETA 9002 reports and for the Jobs for Veterans' State grants' activities through the Veterans' Employment and Training Services (VETS) 200 reports. The current expiration date is March 31, 2012. A copy of the proposed information collection request can be obtained by contacting the office listed below in the addresses section of this notice.

DATES: Written comments must be submitted to the office listed in the addresses section below on or before March 19, 2012.

ADDRESSES: Submit written comments to Karen Staha, Office of Policy Development and Research, Employment and Training Administration, U.S. Department of Labor, 200 Constitution Avenue NW., Room N-5641, Washington, DC 20210. Telephone number: (202) 693-2917 (this is not a toll-free number). Fax: (202) 693-3490. Email: Staha.Karen@dol.gov.

SUPPLEMENTARY INFORMATION:

I. Background

Each quarter, states and territories submit data on individuals and employers who receive core employment and workforce information services through the public labor exchange and employment services and the Jobs for Veterans' state grants in the states' One-Stop delivery systems. These data—submitted to the Department via the ETA 9002 and VETS 200 reports—are used by ETA and VETS to evaluate performance and delivery of labor exchange and employment services within the One-Stop delivery system.

ETA and VETS use the data to track total participants, aggregate information about characteristics, services and outcomes of job seeker customers. Additionally, ETA and VETS analyze the data to determine the delivery of core labor exchange services; to study performance outcomes vis-à-vis performance measures, and state policies and procedures; and to help drive the workforce investment system toward continuous improvement of outcomes and integrated service delivery. Within ETA, the data are used by the Office of Workforce Investment, the Office of Unemployment Insurance, the Office of Financial and Administrative Management, the Office of Policy Development and Research, and the Office of Regional Management (including the regional offices). Other Departmental users include the Office of the Assistant Secretary for Employment and Training and the Office of the Assistant Secretary for Policy.

The reports and other analyses of the data are made available to the states, members of Congress, veterans' organizations, research firms and others needing information on public employment and workforce information services. Information about labor exchange and employment services for veterans are provided to Congress to meet VETS reporting requirements codified in Title 38 of the United States Code (U.S.C.).

Currently, LERS is the only mechanism for collecting performance information on Wagner-Peyser Act funded and Jobs for Veterans' state grants. As such, this set of reports is necessary for tracking and reporting to stakeholders data on the usage and performance of these programs. More specifically, these reports are used to monitor the core purpose of the program—mainly, tracking how many people found jobs; did people stay employed; and what were their earnings.

Information is collected on the ETA 9002 and VETS 200 Reports under the following authority:

• Wagner-Peyser Act sec. 3(a), 29 U.S.C. 49b(a)

• Wagner-Peyser Act sec. 3(c), 29 U.S.C. 49b(c)

• Wagner-Peyser Act sec. 7(b), 29 U.S.C. 49f(b)

• Wagner-Peyser Act sec. 10(c), 29 U.S.C. 49i(c)

• Wagner-Peyser Act sec. 13(a), 29 U.S.C. 49l(a)

• Wagner-Peyser Act sec. 15(e)(2)(I), 29 U.S.C. 49l-2(e)(2)(I).

• Provisional Guidance on the Implementation of the 1997 Standards for Federal Data on Race and Ethnicity, Executive Office of the President, Office of Management and Budget (66 FR 3829-3831).

• Revisions to the Standards for Maintaining, Collecting, and Presenting Federal Data on Race and Ethnicity (62 FR 58781-58790); and

• Priority of Service for veterans in Department of Labor job training programs, 38 U.S.C. 4215(a)(2).

By July 1, 2012, ETA must modify the current reporting system to begin the collection of several additional statutorily required pieces of information. The first pertains to the priority of service provisions contained in the Jobs for Veterans Act, Public Law 107-288. These provisions provide that veterans and certain spouses of veterans (together comprising the category of covered persons) are entitled to priority over non-covered persons for the receipt of employment, training, and placement services provided under new or existing qualified job training programs. Qualified job training programs are defined at 38 U.S.C. 4215(a)(2) as any workforce preparation, development or delivery program or service that is directly funded, in whole or in part, by the Department.

Additional items are required under Public Law 112-56, Title II, Vow to Hire Heroes, Sections 238 and 239, and pertain to: (1) Performance measures on job counseling, training and placement programs of the Department, and; (2) clarifications of priority of service for veterans in Departmental job training programs.

These requirements impact both the ETA 9002 and VETS 200 reports. Lastly, the expansive focus on veterans reemployment initiatives has necessitated collection of additional information on groups of veterans (such as Post 9/11 era veterans), targeted services they received, and additional aspects of their outcomes in order to monitor and oversee their effectiveness.

II. Review Focus

The Department is particularly interested in comments which:

• Evaluate whether the proposed continuation of the collection of information is necessary for the proper performance of the functions of the agency, including whether the information has considerable practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions.

Title: Labor Exchange Reporting System (LERS).

OMB Number: 1205-0240.

Affected Public: State, local and tribal government entities and private non-profit organizations.

Form(s): ETA-9002, VETS-200, The Employment and Training (ET) Handbook No. 406, Employment Service Record Layout, Labor Exchange DRVS Software Version 7.2 User's Guide.

Total Annual Respondents: 54.

Annual Frequency: Quarterly.

Total Annual Responses: 1944.

Average Time per Response: 375 hours.

Estimated Total Annual Burden Hours: 728,889.

Total Annual Burden Cost for Respondents: $0.

Comments submitted in response to this comment request will be summarized and/or included in the request for OMB approval of the information collection request; they will also become a matter of public record.

Dated: January 2, 2012.
Jane Oates,
Assistant Secretary for Employment and Training.

[FR Doc. 2012-790 Filed 1-17-12; 8:45 am]

BILLING CODE 4510-FN-P